NATIONAL AERONAUTICS AND SPACE ADMINISTRATION

[Notice: (22-035)]

NASA Astrophysics Advisory Committee; Meeting

AGENCY: National Aeronautics and Space Administration (NASA).

ACTION: Notice of meeting.

SUMMARY: In accordance with the Federal Advisory Committee Act, as amended, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Tuesday, June 7, 2022, 3:00 p.m.-5:00 p.m., Eastern Time.

ADDRESSES: Meeting will be virtual only. See WebEx and audio dial-in information below under SUPPLEMENTARY INFORMATION.

FOR FURTHER INFORMATION CONTACT: Ms. KarShelia Kinard, Science Mission Directorate, NASA Headquarters, Washington, DC 20546, (202) 358-2355 or karshelia.kinard@nasa.gov.

SUPPLEMENTARY INFORMATION: As noted above, this meeting is virtual and will take place telephonically and via Webex. Any interested person must use a touch-tone phone to participate in this meeting. The Webex connectivity information is provided below. For audio, when you join the Webex event, you may use your computer or provide your phone number to receive a call back, otherwise, call the U.S. toll conference number listed.

Any interested person may join via WebEx Tuesday, June 7, 2022 at https://nasaenterprise.webex.com/nasaenterprise/j.php?MTID=m74e9251bae2ab01860e5e45691f1149c.

The meeting number (access code) for Tuesday, June 7, 2022 is 2760 526 0919, and the password is PXnMqKb$282.

You may join by phone by dialing toll number 1-929-251-9612 or 1-415-527-5035.

The purpose of the meeting is to review the findings of the Senior Review Subcommittee for Astrophysics Operating missions, and to provide advice and recommendation to NASA on the future operations of those missions.

The agenda will be posted on the Astrophysics Advisory Committee web page: https://science.nasa.gov/researchers/nac/science-advisory-committees/apac.

It is imperative that the meeting be held on this date to accommodate the scheduling priorities of the key participants.

Patricia Rausch,
Advisory Committee Management Officer, National Aeronautics and Space Administration.

[FR Doc. 2022-09463 Filed 5-2-22; 8:45 am]

BILLING CODE 7510-13-P